DEPARTMENT OF THE INTERIOR

National Park Service

Final Environmental Impact Statement/General Management Plan, Minidoka Internment National Monument, Jerome County, ID; Notice of Approval of Record of Decision

Summary: Pursuant to Section 102(2)(C) of the National Environmental Policy Act of 1969 (Pub. L. 91-190, as amended) and the implementing regulation promulgated by the Council on Environmental Quality (40 CFR 1505.2), the Department of the Interior, National Park Service has prepared, and the Regional Director, Pacific West Region has approved, the Record of Decision for the General Management Plan for Minidoka Internment National Monument. The formal no-action period was officially initiated July 28, 2006, with the U.S. Environmental Protection Agency's Federal Register notification of the filing of the Final Environmental Impact Statement (EIS).

Decision: As soon as practicable the monument will begin to implement as its new General Management Plan the Preferred Alternative (Alternative C) contained in the Draft and Final EIS. The selected plan features a deliberate, long-term strategy emphasizing on-site education and interpretation and the extensive treatment and use of cultural resources in telling the Minidoka story. A range or preservation techniques to protect and enhance historic resources will be employed, including delineation; stabilization, restoration, or rehabilitation; and limited reconstruction. A complete barracks block exhibit in its original location will be established. A visitor contact facility area will be developed by adaptively reusing existing historic buildings; there will be minimal new development. As document in the EIS, this course of action was also deemed to be the “environmentally preferred” alternative. The proposed plan and three alternatives were identified and analyzed in the Final EIS, and previously in the Draft EIS (the latter was distributed in June 2005). The full spectrum of foreseeable environmental consequences was assessed, and appropriation mitigation measures identified, for each alternative. Beginning with early scoping, through the preparation of the Draft and Final EIS, scores of public meetings were conducted and over 2000 interested individuals participated overall. Approximately 375 written comments were received during the scoping phase or in response to the Draft EIS (given the minor nature of comments received on the Draft EIS, an abbreviated format was used for the Final EIS). Key consultations or other contacts that aided in preparing the EIS involved (but were not limited to) the Jerome County Office of Planning and Zoning, Jerome County Historical Society, State Historic Preservation Offices in Idaho, Oregon, and Washington, the Advisory Council on Historic Preservation, U.S. Fish and Wildlife Service, native American Tribes, Japanese American Citizens League, South Central Idaho Tourism Association, and adjoining land managing agencies. Local communities, county and city officials, and interested organizations were contacted extensively during initial scoping and throughout the GMP planning process.

Copies: Interested parties desiring to review the Record of Decision may obtain a complete copy by contacting the Superintendent, Minidoka Internment National Monument, P.O. Box 570, Hagerman, Idaho 83332-0570; or via telephone request at (208) 837-4793.

Dated: September 6, 2006.
Jonathan B. Jarvis,
Regional Director, Pacific West Region.

[FR Doc. 06-8952 Filed 10-27-06; 8:45 am]

BILLING CODE 4312-DC-M